DEPARTMENT OF JUSTICE

Notice of Lodging of Consent Decree Under the Comprehensive Environmental Response, Compensation, and Liability Act

Notice is hereby given that on July 25, 2012, a proposed Consent Decree in United States v. James W. Clark, et al., Civil Action No. 08-CV-04158, was lodged with the United States District Court for the Northern District of Illinois.

In this action, the United States brought claims against Calumet Heat Treating Company, Thomas G. Cooper, and Nitrex, Inc. (“Settling Defendants”) for response costs associated with the release or threatened release of hazardous substances from facilities at and near the South Green Plating Superfund Site in Chicago, Illinois (hereinafter the “Site”), pursuant to the Comprehensive Environmental Response, Compensation, and Liability Act, 42 U.S.C. 9601 et seq. (“CERCLA”). The proposed Consent Decree requires Settling Defendants to reimburse the United States' past response costs in the amount of $430,000.00.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. James W. Clark, et al., Civil Action No. 08-CV-04158 (N.D. Ill.), D.J. Ref. No. 90-11-3-09477.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to Environment and Natural Resources Division, Environmental Enforcement Section, fax no. (202) 514-0097, phone confirmation number (202) 514-5271, email EESCDCopy.ENRD@usdoj.gov. If requesting a copy from the Consent Decree Library, please enclose a check in the amount of $5.50 for a copy of the complete Consent Decree (25 cents per page reproduction cost) payable to the U.S. Treasury or, if by email or fax, forward a check in that amount to the Consent Decree Library at the stated address.

Maureen Katz,
Assistant Section Chief, Environmental Enforcement Section, Environment and Natural Resources Division.

[FR Doc. 2012-18517 Filed 7-30-12; 8:45 am]

BILLING CODE 4410-15-P